FEDERAL COMMUNICATIONS COMMISSION

[OMB 3060-0819; FR ID 266290]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before January 10, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0819.

Title: Bridging the Digital Divide for Low-Income Consumers, Lifeline and Link Up Reform and Modernization, Telecommunications Carriers Eligible for Universal Service Support.

Form No.: FCC Forms 481, 497, 555, 5629, 5630, and 5631.

Type of Review: Revision of a currently approved collection.

Respondents: Individuals or households, businesses or other for-profit institutions, and not-for-profit institutions.

Number of Respondents and Responses: 25,111,368 respondents; 26,878,712 responses.

Estimated Time per Response: 0.0167-125 hours.

Frequency of Response: Annual, biennial, monthly, daily and on occasion reporting requirements, recordkeeping requirement and third-party disclosure requirement.

Obligation to Respond: Required to obtain or retain benefits and Voluntary. Statutory authority is contained in Sections 1, 4(i), 5, 201, 205, 214, 219, 220, 254, 303(r), and 403 of the Communications Act of 1934, as amended, and section 706 of the Communications Act of 1996, as amended; 47 U.S.C. 151, 154(i), 155, 201, 205, 214, 219, 220, 254, 303(r), 403, and 1302.

Total Annual Burden: 6,534,599 hours.

Total Annual Cost: $937,500.

Needs and Uses: On November 15, 2023, the Commission adopted the Supporting Survivors of Domestic and Sexual Violence et al., WC Docket Nos. 22-238, 11-42, 21-450, Report and Order, FCC 23-96 (2023) (Safe Connections Act Order). The Safe Connections Act Order, among other things, adopted rules to address the emergency communications portions of the Safe Connections Act. The Order also required that surveys be developed and sent to stakeholder groups working directly with survivors in order to conduct a program evaluation, including examining the impact and effectiveness of the support offered to survivors. The Commission is requesting the Office of Management and Budget (OMB) approval for this revised information collection to implement the new requirements captured in the Safe Connections Act Survey in the Safe Connections Act Order, FCC 23-96. The revision requires that surveys be developed and sent to stakeholder groups working directly with survivors in order to conduct a program evaluation, including examining the impact and effectiveness of the support offered to survivors.

The Commission first adopted rules for the Lifeline program in 1997. On May 8, 1997, the Commission adopted rules establishing, among other things, that eligible telecommunications carriers (ETCs) offering Lifeline and Link Up to qualifying low-income customers would receive reimbursement from the federal Universal Service Fund (USF or Fund) for low-income support.

On April 2, 2004, in its Report and Order and Further Notice of Proposed Rulemaking (Lifeline Order), the Commission directed ETCs to certify their Lifeline/Link Up subscribers' eligibility for the program and to verify a portion of their subscribers' eligibility on an annual basis. States that operated their own Lifeline/Link Up programs were allowed to develop their own certification procedures (referred to as non-federal default states). The Lifeline Order also required ETCs to submit to the Universal Service Administrative Company (USAC or Administrator) proof that they certified that their Lifeline subscribers are eligible for Lifeline, and proof that they verified a portion of their subscribers' continued eligibility for Lifeline.

On September 23, 2011, the Commission issued an Inquiry into Disbursement Process for the Universal Service Fund Low Income Program seeking comment on a proposal for disbursing USF low-income support to ETCs based upon claims for reimbursement of actual support payments made, instead of projected claims for support. On February 6, 2012, the Commission issued its Report and Order and Further Notice of Proposed Rulemaking (2012 Lifeline Order). In the 2012 Lifeline Order, the Commission adopted the proposal to file the FCC Form 497 monthly and changed the low-income disbursement process from payments based on projected subscriber counts to payments based on actual subscriber counts. After the 2012 Lifeline Order, ETCs were required to recertify the eligibility of their entire subscriber base annually. Starting in 2013, ETCs could elect to have USAC conduct the annual recertification process on their behalf.

On June 22, 2015, the Commission released a Second Further Notice of Proposed Rulemaking, Order on Reconsideration, Second Report and Order, and Memorandum Opinion and Order (2015 Lifeline Order). The Commission adopted several rules in the 2015 Lifeline Order to: strengthen the document retention requirements; ensure that only ETCs directly serving low-income customers receive reimbursement under the Lifeline program; and require ETCs to use a uniform snapshot date to request reimbursement from USAC for the provision of Lifeline support.

On April 27, 2016, the Commission adopted the Lifeline and Link Up Reform and Modernization et al., WC Docket Nos. 11-42, 09-197, 10-90, Third Report and Order, Further Report and Order, and Order on Reconsideration, FCC 16-38 (2016) (2016 Lifeline Order) The 2016 Lifeline Order changes included requiring ETCs to certify compliance with the new minimum service requirements, moving to rolling annual subscriber recertification, streamlining the first-year ETC audit requirements, and eliminating the temporary address requirements.

The Commission's decision to transition to a centralized National Verifier was outlined in detail in the 2016 Lifeline Order. The National Verifier was established to make eligibility determinations and perform a variety of other functions necessary to enroll subscribers into the Lifeline program. The National Verifier verifies Lifeline subscriber eligibility, checks for duplicate Lifeline subscribers, conducts recertification of subscribers, and calculates support payments to ETCs. ETCs maintain ultimate responsibility for the accuracy of information submitted to the National Verifier and complying with the Lifeline program's rules. The National Verifier was launched over a period of several years from late 2017 through December 2020, serving all states, territories, and the District of Columbia.

On October 30, 2019, the Commission adopted the Bridging the Digital Divide for Low-Income Consumers, WC Docket Nos. 17-287, 11-42, 09-197, Fifth Report and Order, Memorandum Opinion and Order and Order on Reconsideration, and Further Notice of Proposed Rulemaking, FCC 19-111 (2019) (2019 Lifeline Order). The 2019 Lifeline Order restored the states' lawful role in designating eligible telecommunications carriers and eliminated the Lifeline Broadband Provider designation category and its associated designation procedures. The Order also implemented a number of administrative changes to improve the integrity of the Lifeline eligibility verification, enrollment, and recertification processes.

On October 20, 2023, the Commission adopted the Connect America Fund et al., WC Docket No. 10-90 et al. WT Docket No. 10-208, Notice of Proposed Rulemaking and Report and Order, FCC 23-87 (Oct. 20, 2023) (Administrative Order). In the Administrative Order, the Commission modified, in relevant part, section 205 of the Commission's rules, to require an ETC that intends to relinquish its ETC designation to provide: (1) advance notice to the state commission and to the Commission of such intention to relinquish, and (2) notice to the Commission of the state authority's decision to permit or deny such relinquishment, within 10 days of its decision. These filings must be submitted regardless of whether the ETC is currently receiving federal support.

Federal Communications Commission.
Marlene Dortch,
Secretary, Office of the Secretary.

[FR Doc. 2024-29001 Filed 12-10-24; 8:45 am]

BILLING CODE 6712-01-P